DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning State Administrative Plan details on how the State will administer the Hazard Mitigation Grant Program.

SUPPLEMENTARY INFORMATION: The development of the State Administrative Plan is required as a condition of receiving Hazard Mitigation Grant Program (HMGP) funding under Section 404 of the Robert T. Stafford Disaster Relief and Emergency Assistance Act. Section 404 mandates that FEMA must approve State Administrative Plan before awarding any project grant assistance to a community or State applicant. The plans must comply with administrative requirements in 44 CFR Parts 13 and 206 and provide information for environmental and floodplain management review in conformance with 44 CFR parts 9 and 10.

Collection of Information

Title: State Administrative Plan for the Hazard Mitigation Grant Program.

Type of Information Collection: Revision of a currently approved collection.

OMB Number: 1660-0026.

Form Numbers: None.

Abstract: The State Administrative Plan is a procedural guide that details how the State will administer the HMGP. The State must have a current administrative plan approved by the appropriate FEMA Regional Director before receiving HGMP funds. The administrative plan may take any form including a chapter within a comprehensive State mitigation program strategy. The State may forward an administrative plan to the Regional Director for approval at any time prior to or immediately after the request for a disaster declaration.

Affected Public: State, Local or Tribal Government.

Estimated Total Annual Burden Hours:

Annual Burden Hours
Project/activity (survey, form(s), focus group, worksheet, etc.) | Number of respondents | Frequency of responses | Burden hours per respondent | Annual responses | Total annual burden hours
| (A) | (B) | (C) | (D) = (A × B) | (E) = (C × D)
Review & Update State Administrative Plan | 32 | 1.5 | 8 | 48 | 384
Total | 32 | 1.5 | 8 | 48 | 384

Estimated Cost: The total annual estimated costs for Urban and regional planners or their equivalent State offices, to collect information at the State level, for information associated with the State Administrative Plans, is estimated to be $10,188. (384 burden hours × $26.53 per hour = $10,188.). The estimated cost to the Federal Government review and approve each State Administrative Plan is estimated to be $7,654 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 4, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Cecelia Rosenberg, Chief, Grants Policy Section, Mitigation Division, (202) 646-3321 for additional information. You may contact the Records Management Branch for copies of the proposed collection of information at facsimile number (202) 646-3347 or e-mail address: FEMA-Information-Collections@dhs.gov.

Dated: March 15, 2007.
John A. Sharetts-Sullivan,
Chief, Records Management and Privacy, Information Resources Management Branch, Information Technology Services Division, Federal Emergency Management Agency, Department of Homeland Security.

[FR Doc. E7-6072 Filed 4-2-07; 8:45 am]

BILLING CODE 9110-11-P